DEPARTMENT OF ENERGY

Federal Energy Regulatory Commission

[Project No. 14328-000]

Dolores Water Conservancy District; Notice of Completing Preliminary Permit Application Accepted for Filing and Soliciting Comments and Motions To Intervene

On May 10, 2012, Dolores Water Conservancy District, Colorado, filed an application, pursuant to section 4(f) of the Federal Power Act (FPA), proposing to study the feasibility of the Plateau Creek Pumped Storage Project to be located on Plateau Creek, near the town of Dolores, Montezuma County, Colorado. The project affects federal lands administered by the Forest Service (San Juan National Forest). The sole purpose of a preliminary permit, if issued, is to grant the permit holder priority to file a license application during the permit term. A preliminary permit does not authorize the permit holder to perform any land-disturbing activities or otherwise enter upon lands or waters owned by others without the owners' express permission.

The proposed project would consist of the following new facilities: (1) An upper reservoir, formed by a 130-foot-high by 6,500-foot-long, roller-compacted concrete (RCC) or embankment dam, with a total storage capacity of 8,000 acre-feet and a water surface area of 275 acres at full pool elevation; (2) a lower reservoir, formed by a 270-foot-high by 800-foot-long dam, having a total storage capacity of 9,500 acre-feet and a water surface area of 200 acres at full pool elevation; (3) two 15-foot-diameter steel penstocks consisting of a surface penstock, a vertical shaft, and an inclined tunnel; (4) two 27-foot-diameter tailrace tunnels that would be 850-feet-long; (5) an underground powerhouse containing two reversible pump-turbines totaling 500 megawatts (MW) (2 units x 250 MW) of generating capacity; and (6) a 7-mile-long, 230 kilovolt (kV) transmission line that would connect the switchyard with an existing 230 kV interconnection east of the project area. The project's annual energy output would vary between 600 and 1,500 gigawatthours.

Applicant Contact: Mr. Kenneth W. Curtis, III, Dolores Water Conservancy District, 60 S. Cactus, P.O. Box 1150, Cortez, CO 81321; phone (970) 565-7562.

FERC Contact: Brian Csernak; phone: (202) 502-6144.

Competing Application: This application competes with Project No. 14328 filed December 1, 2011. Competing applications had to be filed on or before May 14, 2012.

Deadline for filing comments and motions to intervene: 60 days from the issuance of this notice. Comments and motions to intervene may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14328) in the docket number field to access the document. For assistance, contact FERC Online Support.

Dated: June 6, 2012.
Kimberly D. Bose,
Secretary.

[FR Doc. 2012-14447 Filed 6-12-12; 8:45 am]

BILLING CODE 6717-01-P